DEPARTMENT OF ENERGY

Federal Energy Regulatory Commission

[Docket No. RP00-401-003]

Enbridge Pipelines (AlaTenn) L.L.C.; Notice of Compliance Filing

March 12, 2003.

Take notice that on March 10, 2003, Enbridge Pipelines (AlaTenn) L.L.C. (AlaTenn) tendered for filing as part of its FERC Gas Tariff, Fourth Revised Volume No. 1, the tariff sheets listed on Appendix A to the filing, to be made effective March 1, 2003.

AlaTenn states that the purpose of the filing is to comply with the Commission's Order issued on February 25, 2003 in the above referenced docket.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 24, 2003.

Magalie R. Salas,
Secretary.

[FR Doc. 03-6526 Filed 3-18-03; 8:45 am]

BILLING CODE 6717-01-P